DEPARTMENT OF ENERGY

Federal Energy Regulatory Commission

Combined Notice of Filings

Take notice that the Commission has received the following Natural Gas Pipeline Rate and Refund Report filings:

Filings Instituting Proceedings

Docket Number: PR18-41-000.

Applicants: Kinder Morgan Texas Pipeline LLC.

Description: Tariff filing per 284.123(b)(1)/: 2017 Annual Certification.

Filed Date: 4/5/18.

Accession Number: 201804055113.

Comments/Protests Due: 5 p.m. ET 4/26/18.

Docket Numbers: RP18-699-000.

Applicants: Transcontinental Gas Pipe Line Company.

Description: § 4(d) Rate Filing: GT&C Section 61—Off-System Capacity to be effective 5/13/2018.

Filed Date: 4/12/18.

Accession Number: 20180412-5053.

Comments Due: 5 p.m. ET 4/24/18.

Docket Numbers: RP18-700-000.

Applicants: NRG Canal LLC,GenOn Holdco 10, LLC.

Description: Joint Petition for Limited Waiver of Capacity Release Regulations and Tariff Provisions of NRG Canal LLC, et al.

Filed Date: 4/12/18.

Accession Number: 20180412-5075.

Comments Due: 5 p.m. ET 4/24/18.

Docket Numbers: RP18-701-000.

Applicants: Texas Eastern Transmission, LP.

Description: § 4(d) Rate Filing: GT&C Section 14.3 Modification to be effective 5/12/2018.

Filed Date: 4/12/18.

Accession Number: 20180412-5112.

Comments Due: 5 p.m. ET 4/24/18.

Docket Numbers: RP18-702-000.

Applicants: National Fuel Gas Supply Corporation.

Description: § 4(d) Rate Filing: Non-Conforming Line K Uprate to be effective 6/1/2018.

Filed Date: 4/12/18.

Accession Number: 20180412-5137.

Comments Due: 5 p.m. ET 4/24/18.

Docket Numbers: RP17-598-004.

Applicants: Great Lakes Gas Transmission Limited Partnership.

Description: Compliance filing Settlement Compliance to RP17-598-001 to be effective 10/1/2017.

Filed Date: 4/13/18.

Accession Number: 20180413-5108.

Comments Due: 5 p.m. ET 4/25/18.

Docket Numbers: RP18-703-000.

Applicants: Algonquin Gas Transmission, LLC.

Description: § 4(d) Rate Filing: Negotiated Rate—Bay State to Macquarie 796310 to be effective 5/1/2018.

Filed Date: 4/13/18.

Accession Number: 20180413-5002.

Comments Due: 5 p.m. ET 4/25/18.

Docket Numbers: RP18-704-000.

Applicants: El Paso Natural Gas Company, L.L.C.

Description: § 4(d) Rate Filing: Negotiated Agreement Update Filing (Conoco Redesignation Apr 18) to be effective 4/16/2018.

Filed Date: 4/13/18.

Accession Number: 20180413-5169.

Comments Due: 5 p.m. ET 4/25/18.

Docket Numbers: RP18-705-000.

Applicants: Natural Gas Pipeline Company of America.

Description: § 4(d) Rate Filing: Amendment to NRA—Macquarie Energy LLC to be effective 4/13/2018.

Filed Date: 4/13/18.

Accession Number: 20180413-5182.

Comments Due: 5 p.m. ET 4/25/18.

Docket Numbers: RP18-706-000.

Applicants: Gulf Crossing Pipeline Company LLC.

Description: § 4(d) Rate Filing: Cap Rel Neg Rate Agmt (Newfield 18 to Sequent 1971) to be effective 4/12/2018.

Filed Date: 4/16/18.

Accession Number: 20180416-5071.

Comments Due: 5 p.m. ET 4/30/18.

Docket Numbers: RP18-707-000.

Applicants: Guardian Pipeline, L.L.C.

Description: § 4(d) Rate Filing: Negotiated Rate PAL Agreement—MIECO, INC to be effective 4/16/2018.

Filed Date: 4/16/18.

Accession Number: 20180416-5150.

Comments Due: 5 p.m. ET 4/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2018.
Nathaniel J. Davis, Sr.,
Deputy Secretary.

[FR Doc. 2018-08489 Filed 4-23-18; 8:45 am]

BILLING CODE 6717-01-P